DEPARTMENT OF TRANSPORTATION

Office of the Secretary

[Docket No. OST—07-28901]

Notice of Request for Renewal of a Previously Approved Collection

AGENCY: Office of the Secretary, DOT.

ACTION: Notice.

SUMMARY: In compliance with the Paperwork Reduction Act of 1995, (44 U.S.C. 3501 et seq.), this notice announces that the Information Collection Request (ICR) abstracted below has been forwarded to the Office of Management and Budget (OMB) for renewal and comment. The ICR describes the nature of the information collection and its expected cost and burden. The Federal Register Notice, with a 60-day comment period soliciting comments on the following collection of information, was published on August 8, 2007 {FR Vol 72, No. 152, page 44605}. No comments were received.

DATES: Comments on this notice must be received by November 28, 2007 to: Attention DOT/OST Desk Officer, Office of Information and Regulatory Affairs, Office of Management and Budget, Docket Library, Room 10102, 725 17th Street, NW., Washington, DC 20503.

ADDRESSES: You may submit comments (identified by DOT DMS Docket Number OST-07-28901) by any of the following methods:

• Web Site: http://dms.dot.gov. Follow the instructions for submitting comments on the DOT electronic docket site.

• Fax: 1-202-493-2251.

• Mail: Docket Management Facility; U.S. Department of Transportation, 1200 New Jersey Avenue, SE., Washington, DC 20590-0001.

• Hand Delivery: West Building, Ground Floor, Rm. W-12-140, 1200 New Jersey Ave, SE., Washington, DC 20590-0001, between 9 a.m. and 5 p.m., Monday through Friday, except on Federal holidays.

• Federal eRulemaking Portal: Go to http://www.regulations.gov. Follow the online instructions for submitting comments.

Instructions: All submissions must include the agency name and docket number or Regulatory Identification Number (RIN) for this rulemaking. For detailed instructions on submitting comments and additional information on the rulemaking process, see the Public Participation heading of the SUPPLEMENTARY INFORMATION section of this document. Note that all comments received will be posted without change to http://dms.dot.gov including any personal information provided. Please see the Privacy Act heading under Regulatory Notes.

Docket: For access to the docket to read background documents or comments received, go to http://dms.dot.gov at any time or to the West Building, Ground Floor, Rm. W-12-140, 1200 New Jersey Ave, SE., Washington, DC 20590-0001, between 9 a.m. and 5 p.m., Monday through Friday, except on Federal holidays.

FOR FURTHER INFORMATION CONTACT: Ellen Shields, Business Policy Division, M-61, Office of the Senior Procurement Executive, Office of the Secretary, (202) 366-4268.

SUPPLEMENTARY INFORMATION: Title: Uniform Administrative Requirements for Grants and Cooperative Agreements With Institutions of Higher Education, Hospitals, and Other Nonprofit Organizations.

OMB Control Number: 2105-0531.

Affected Public: Schools, Hospitals and other Nonprofit Organizations applying for or receiving assistance from the Department of Transportation.

Annual Estimated Burden: 10,500 hours. There is no change to the annual estimated burden.

Abstract: The requested extension of the approved control number covers only those DOT programs that utilize the standard OMB forms SF 269, SF 270, SF 271, 272 and SF 424.

Comments are invited on: (a) Whether the proposed collection of information is necessary for the proper performance of the functions of the Department, including whether the information will have practical utility; (b) the accuracy of the Department's estimate of the burden of the proposed information collection; (c) ways to enhance the quality, utility and clarity of the information collection; and (d) ways to minimize the burden of the collection of information on respondents, including the use of automated collection techniques or other forms of information technology. All responses to this notice will be summarized and included in the request for OMB approval.

Issued in Washington, DC, on October 23, 2007.
David J. Litman,
Senior Procurement Executive.

[FR Doc. E7-21253 Filed 10-26-07; 8:45 am]

BILLING CODE 4910-62-P